NUCLEAR REGULATORY COMMISSION

Advisory Committee on Reactor Safeguards; Meeting of the Plant Operations and Fire Protection Subcommittee; Notice of Meeting

The ACRS Subcommittee on Plant Operations & Fire Protection will hold a meeting on July 28, 2009, at Watts Bar Nuclear Plant, 1260 Nuclear Plant Road, Spring City, TN 37381.

This meeting will be open to public attendance.

The agenda for the subject meeting shall be as follows:

July 28, 2009—1 p.m.-4:30 p.m.

The Subcommittee will discuss the Tennessee Valley Authority's (TVA) activities related to construction and licensing of Watts Bar Nuclear Plant, Unit 2. The Subcommittee will hear presentations by and hold discussions with representatives of TVA, and other interested persons regarding this matter. The Subcommittee will gather information, analyze relevant issues and facts, and formulate proposed positions and actions, as appropriate, for deliberation by the full Committee, at a later date.

Members of the public desiring to observe the meeting, provide oral statements and/or written comments should notify the Designated Federal Official, Ms. Maitri Banerjee (telephone 301-415-6973) at least seven days prior to the meeting, so that appropriate arrangements can be made for access to the meeting site which is inside the TVA's owner controlled area around the Watts Bar facility. Members of the public planning to attend the meeting will be required to provide information to the Designated Federal Official including their full name, vehicle license plate number, and request for access. A form of valid identification (e.g., government issued driver's license) has to be presented to the security guards at the vehicle access point of the TVA's owner controlled area, and all personnel requesting access must follow the directions of security guards. Electronic recordings will be permitted. Detailed procedures for the conduct of and participation in ACRS meetings were published in the Federal Register on October 6, 2008 (73 FR 58268-58269).

Further information regarding this meeting can be obtained by contacting the Designated Federal Official between 7 a.m. and 4:45 p.m. (ET). Persons planning to attend this meeting are urged to contact the above named individual at least two working days prior to the meeting to be advised of any potential changes to the agenda.

Dated: June 25, 2009.
Cayetano Santos,
Chief, Reactor Safety Branch A, Advisory Committee on Reactor Safeguards.

[FR Doc. E9-15629 Filed 7-1-09; 8:45 am]

BILLING CODE 7590-01-P